DEPARTMENT OF TRANSPORTATION

Federal Aviation Administration

Notice of Intent To Rule on Application 00-05-C-00-DBQ To Impose and Use the Revenue From a Passenger Facility Charge (PFC) at Dubuque Regional Airport, Dubuque, IA

AGENCY: Federal Aviation Administration (FAA), DOT.

ACTION: Notice of intent to rule on application.

SUMMARY: The FAA proposes to rule and invites public comment on the application to impose and use the revenue from a PFC at Dubuque Regional Airport under the provisions of the Aviation Safety and Capacity Expansion Act of 1990 (Title IX of the Omnibus Budget Reconciliation Act of 1990) (Public Law 101-508) and Part 158 of the Federal Aviation Regulations (14 CFR Part 158).

DATES: Comments must be received on or before November 15, 2000.

ADDRESSES: Comments on this application may be mailed or delivered in triplicate to the FAA at the following address: Federal Aviation Administration, Central Region, Airports Division, 901 Locust, Kansas City, MO 64106.

In addition, one copy of any comments submitted to the FAA must be mailed or delivered to Mr. Kenneth J. Kraemer, A.A.E., Airport Manager, Dubuque Regional Airport, at the following address: 11000 Airport Road, Dubuque, IA 52003.

Air carriers and foreign air carriers may submit copies of written comments previously provided to the Dubuque Airport Commission, Dubuque Regional Airport, under section 158.23 of Part 158.

FOR FURTHER INFORMATION CONTACT: Lorna Sandridge, PFC Program Manager, FAA, Central Region, 901 Locust, Kansas City, MO 64106, (816) 329-2641. The application may be reviewed in person at this same location.

SUPPLEMENTARY INFORMATION: The FAA proposes to rule and invites public comment on the application to impose and use the revenue from a PFC at the Dubuque Regional Airport under the provisions of the Aviation Safety and Capacity Expansion Act of 1990 (Title IX of the Omnibus Budget Reconciliation Act of 1990) (Pub. Law 101-508) and part 158 of the Federal Aviation Regulations (14 CFR part 158).

On September 30, 2000, the FAA determined that the application to impose and use the revenue from a PFC submitted by the Dubuque Airport Commission, Dubuque, Iowa, was substantially complete within the requirements of section 158.25 of part 158. the FAA will approve or disapprove the application, in whole or in part, no later than December 30, 2000.

The following is a brief overview of the application.

Level of the proposed PFC: $4.50.

Proposed charge effective date: April, 2001.

Proposed charge expiration date: June, 2003.

Total estimated PFC revenue: $631,592.

Brief description of proposed project(s): Runway 18/36 extension paving and lighting, construct parallel taxiway and commence instrumentation of Runway 18/36; rehabilitate Runway 18/36, including grading of the northerly runway safety area and partial installation of the instrument landing system (ILS), phase 1; install ILS and medium-intensity approach lighting system with runway alignment indicator lights (MALSR) for Runway 36; install an airfield operations area wildlife fence.

Any person may inspect the application in person at the FAA office listed above under FOR FURTHER INFORMATION CONTACT.

In addition, any person may, upon request, inspect the application, notice and other documents germane to the application in person at the Dubuque Regional Airport.

Issued in Kansas City, Missouri, on September 29, 2000.
George A. Hendon,
Manager, Airports Division, Central Region.

[FR Doc. 00-26527 Filed 10-13-00; 8:45 am]

BILLING CODE 4910-13-M